DEPARTMENT OF HOMELAND SECURITY

Coast Guard

33 CFR Part 165

[Docket No. USCG-2022-0279]

Safety Zones; Annual Events in the Captain of the Port Buffalo Zone—Lake Erie Open Water Swim

AGENCY: Coast Guard, DHS.

ACTION: Notice of enforcement of regulation; correction.

SUMMARY: The Coast Guard is correcting a notice of enforcement of regulation that appeared in the Federal Register on April 20, 2022. That notification entitled Safety Zones; Annual Events in the Captain of the Port Buffalo Zone—Lake Erie Open Water Swim. This correction applies to the docket number.

DATES: This correction is effective April 27, 2022.

FOR FURTHER INFORMATION CONTACT: For information about this document call or email Spencer Phillips, Coast Guard; telephone 202-372-3854, email spencer.phillips@uscg.mil.

SUPPLEMENTARY INFORMATION: In FR Doc. 2022-08428, appearing on page 23445 in the Federal Register on April 20, 2022, the following correction is made:

Federal Register Correction

On page 23445, in the first column, in the headings, “[Docket No. 0279]” is corrected to read “[Docket No. USCG-2022-0279]”.

Dated: April 22, 2022.
James E. McLeod,
Acting Chief, Office of Regulations and Administrative Law.

[FR Doc. 2022-08996 Filed 4-26-22; 8:45 am]

BILLING CODE 9110-04-P